Proclamation 7597 of September 20, 2002

Family Day, 2002

By the President of the United States of America

A Proclamation

America's character begins in the home, where children learn proper standards of conduct, principled values, and the importance of service. Families provide children the encouragement, support, and love they need to become confident, compassionate, and successful members of society. We must work together to promote and preserve the health and security of our families by upholding the timeless values that have sustained our society through history.

Recent events have reminded Americans of the blessings of family and friends, and of the importance of faith. As a Nation, we have a renewed dedication to our freedom, our country, and our principles. In homes, schools, places of worship, the workplace, and civic and social organizations, we must continue to encourage responsibility, compassion, and good citizenship.

Americans must also act to fight crime and drugs, and provide a safe and healthy environment for our children. We can begin by working to strengthen the bonds and improving communication between parents and children. Research done by the National Center on Addiction and Substance Abuse at Columbia University has consistently shown that the more often children eat dinner with their parents, the less likely children are to smoke, drink, or use illegal drugs. Naturally, parents should be the most prominent and active figures in their children's lives. By spending more family time together, parents can better engage with their children and encourage them to make the right choices.

The nurturing and development of our families require investment, focus, and commitment. Strong families make strong and drug-free communities. By taking time to develop positive and open relationships with their children, parents help fight the war on drugs and encourage positive choices. Across our land, citizens, schools, and civic institutions can assist families by helping to meet the needs of all those who live in our communities. As we work together to strengthen our families, we will build a Nation of hope and opportunity for all.

NOW, THEREFORE, I, GEORGE W. BUSH, President of the United States of America, by virtue of the authority vested in me by the Constitution and laws of the United States, do hereby proclaim September 23, 2002, as Family Day. I call upon the people of the United States to observe this day by spending quality time with family members and engaging in other nurturing activities to strengthen the relationships between parents and children and help fight against substance abuse.

IN WITNESS WHEREOF, I have hereunto set my hand this Twentieth day of September, in the year of our Lord two thousand two, and of the Independence of the United States of America the two hundred and twenty-seventh.

B

[FR Doc. 02-24466

Filed 9-24-02; 8:45 am]

Billing code 3195-01-P